DEPARTMENT OF TRANSPORTATION

Federal Aviation Administration

14 CFR Part 39

[Docket No. FAA-2013-1073; Directorate Identifier 2012-NM-039-AD; Amendment 39-17856; AD 2014-11-06]

RIN 2120-AA64

Airworthiness Directives; Airplanes Originally Manufactured by Lockheed for the Military as Model P-3A and P3A Airplanes

AGENCY: Federal Aviation Administration (FAA), DOT.

ACTION: Final rule.

SUMMARY: We are adopting a new airworthiness directive (AD) for certain airplanes originally manufactured by Lockheed Martin Aeronautics Company for the military as Model P-3A or P3A airplanes. This AD was prompted by a determination that the existing maintenance or inspection program must be revised to address fatigue cracking of the airplane. This AD requires revising the maintenance or inspection program, as applicable, to incorporate certain limitations. We are issuing this AD to detect and correct fatigue cracking, which could result in reduced structural integrity of the airplane.

DATES: This AD is effective July 8, 2014.

The Director of the Federal Register approved the incorporation by reference of a certain publication listed in this AD as of July 8, 2014.

ADDRESSES: For service information identified in this AD, contact Avenger Aircraft and Services, 103 N. Main Street, Suite 106, Greenville, SC 29601-4833; telephone: 864-232-8073; fax: 864-232-8074; email: AAS@AvengerAircraft.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-1073; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: George Garrido, Aerospace Engineer, Airframe Branch, ANM-120L, FAA, Los Angeles Aircraft Certification Office, 3960 Paramount Boulevard, Lakewood, CA 90712-4137; phone: 562-627-5357; fax: 562-627-5210; email: george.garrido@faa.gov.

SUPPLEMENTARY INFORMATION:

Discussion

We issued a notice of proposed rulemaking (NPRM) to amend 14 CFR part 39 by adding an AD that would apply to certain airplanes originally manufactured by Lockheed Martin Aeronautics Company for the military as Model P-3A or P3A airplanes. The NPRM published in the Federal Register on January 21, 2014 (79 FR 3341). The NPRM was prompted by a determination that the existing maintenance program must be revised to address fatigue cracking of the airplane. The NPRM proposed to require revising the maintenance or inspection program, as applicable, to incorporate certain limitations. We are issuing this AD to detect and correct fatigue cracking, which could result in reduced structural integrity of the airplane.

Comments

We gave the public the opportunity to participate in developing this AD. We have considered the comment received. The single commenter, Lockheed Martin (Lockheed) did not request a change to the NPRM (79 FR 3341, January 21, 2014).

Conclusion

We reviewed the relevant data, considered the comment received, and determined that air safety and the public interest require adopting this AD as proposed except for minor editorial changes. We have determined that these minor changes:

• Are consistent with the intent that was proposed in the NPRM (79 FR 3341, January 21, 2014) for correcting the unsafe condition; and

• Do not add any additional burden upon the public than was already proposed in the NPRM (79 FR 3341, January 21, 2014).

Costs of Compliance

We estimate that this AD affects 8 airplanes of U.S. registry.

We estimate the following costs to comply with this AD:

Estimated Costs
Action | Labor cost | Parts cost | Cost per product | Cost on U.S. operators
Revise the maintenance or inspection program | 1 work-hour × $85 per hour = $85 | $0 | $85 | $680

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-11-06 Lockheed (Original Manufacturer): Amendment 39-17856; Docket No. FAA-2013-1073; Directorate Identifier 2012-NM-039-AD.

(a) Effective Date

This AD is effective July 8, 2014.

(b) Affected ADs

None.

(c) Applicability

This AD applies to all Model P-3A or P3A airplanes originally manufactured by Lockheed Martin Aeronautics Company for the military, as identified in paragraphs (c)(1) and (c)(2) of this AD, certificated in any category:

(1) Aero Union Corporation Model P3A airplanes; and

(2) USDA Forest Service Model P-3A airplanes.

(d) Subject

Air Transport Association (ATA) of America Code 55, Stabilizers; 57, Wings.

(e) Unsafe Condition

This AD was prompted by a determination that the existing maintenance or inspection program must be revised to address fatigue cracking of the airplane. We are issuing this AD to detect and correct fatigue cracking, which could result in reduced structural integrity of the airplane.

(f) Compliance

Comply with this AD within the compliance times specified, unless already done.

(g) Maintenance or Inspection Program Revision

Within 12 months after the effective date of this AD, revise the maintenance or inspection program, as applicable, by incorporating airworthiness limitations specified in Avenger Aircraft and Services P3A Airworthiness Limitations Section—FAA TCDS A32NM & TCDS T00006LA, Forest and Wildlife Conservation Usage (Includes Aerial Dispensing of Liquids), AAS-ALS-07-001, Revision D, dated August 2, 2010.

(h) Compliance Times for Modifications, Replacements, and Inspections

For the tasks specified in Part-I, Sections B. through E., of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010, the compliance times are specified in paragraphs (h)(1) through (h)(4) of this AD. For airplanes with combined baseline and aerial dispensing usage accumulated, the total remaining life and the total remaining hours or flights until inspection is due for the principle structural element (PSE) inspection requirements is determined by combining the fatigue damage accumulated during the baseline and the aerial dispensing of liquids usage. The usage must be combined in accordance with a method approved by the Manager, Los Angeles Aircraft Certification Office (ACO), FAA.

(1) For the baseline life limits, the compliance time is: At the applicable “flight hours” or “flights,” whichever occurs first, specified in Part-I, Section B, “Life Limitations Baseline Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(2) For the baseline PSE inspection requirements, the compliance time is: At the applicable “threshold interval hours” or “threshold interval flights” since new, whichever occurs first, as specified in Tables C.1, C.2, and C.3, of Part-I, Section C, “Principle Structural Element Inspection Requirements—Baseline Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later. Where compliance times are specified as “threshold interval hours,” those compliance times are total flight hours. Where the compliance times are specified as “threshold interval flights,” those compliance times are total flight cycles.

(3) For the aerial dispensing of liquids life limits, the compliance time is: At the applicable “flight hours” or “flights,” whichever occurs first, specified in Part-I, Section D, “Life Limitations—Aerial Dispensing of Liquids Usage” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(4) For the aerial dispensing of liquids PSE inspection requirements, the compliance time is: At the applicable “threshold interval hours” or threshold interval flights,” whichever occurs first, as specified in Tables E.1, E.2, and E.3, of Part-I, Section E, “Principle Structural Element Inspection Requirements—Aerial Dispensing of Liquids Usage,” of Procedure 01-00-005, of Avenger Aircraft and Services P3A Airworthiness Limitations Section—FAA TCDS A32NM & TCDS T00006LA, Forest and Wildlife Conservation Usage (Includes Aerial Dispensing of Liquids), AAS-ALS-07-001, Revision D, dated August 2, 2010; or within 12 months after the effective date of this AD; whichever occurs later.

(i) No Alternative Actions or Intervals

After accomplishing the revision required by paragraph (g) of this AD, no alternative actions (e.g., inspections) or intervals may be used unless the actions or intervals are approved as an alternative method of compliance in accordance with the procedures specified in paragraph (j) of this AD.

(j) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-LAACO-AMOC-Requests@faa.gov.

(2) Before using any approved AMOC, notify your appropriate principal inspector, or lacking a principal inspector, the manager of the local flight standards district office/certificate holding district office.

(k) Related Information

For more information about this AD, contact George Garrido, Aerospace Engineer, Airframe Branch, ANM-120L, FAA, Los Angeles Aircraft Certification Office, 3960 Paramount Boulevard, Lakewood, CA 90712-4137; phone: 562-627-5357; fax: 562-627-5210; email: george.garrido@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Avenger Aircraft and Services P3A Airworthiness Limitations Section—FAA TCDS A32NM & TCDS T00006LA, Forest and Wildlife Conservation Usage (Includes Aerial Dispensing of Liquids), AAS-ALS-07-001, Revision D, dated August 2, 2010. (ii) Reserved.

(3) For service information identified in this AD, contact Avenger Aircraft and Services, 103 N. Main Street, Suite 106, Greenville, SC 29601-4833; telephone: 864-232-8073; fax: 864-232-8074; email: AAS@AvengerAircraft.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 16, 2014.
Michael Kaszycki,
Acting Manager, Transport Airplane Directorate, Aircraft Certification Service.

[FR Doc. 2014-12606 Filed 6-2-14; 8:45 am]

BILLING CODE 4910-13-P